COMMITTEE FOR THE IMPLEMENTATION OF TEXTILE AGREEMENTS

Denial of Short Supply Request under the United States - Caribbean Basin Trade Partnership Act (CBTPA)

August 15, 2002.

AGENCY: Committee for the Implementation of Textile Agreements (CITA).

ACTION: Denial of the request alleging that certain100 percent cotton yarn-dyed flannel fabrics, for use in apparel articles, cannot be supplied by the domestic industry in commercial quantities in a timely manner.

SUMMARY: On June 11, 2002, the Chairman of CITA received a request from Intradeco Corporation of Miami, Florida alleging that certain fabrics, classified under subheading 5208.43.00 of the Harmonized Tariff Schedule of the United States (HTSUS), cannot be supplied by the domestic industry in commercial quantities in a timely manner. It requested that apparel of such fabrics be eligible for preferential treatment under the CBTPA. Based on currently available information, CITA has determined that these subject fabrics can be supplied by the domestic industry in commercial quantities in a timely manner and therefore denies the request.

FOR FURTHER INFORMATION CONTACT: For Further Information Contact: Richard Stetson, International Trade Specialist, Office of Textiles and Apparel, U.S. Department of Commerce, (202) 482-3400.

SUPPLEMENTARY INFORMATION:

Authority: Section 213(b)(2)(A)(v)(II) of the Caribbean Basin Economic Recovery Act, as added by Section 211(a) of the CBTPA; Section 6 of Executive Order No. 13191 of January 17, 2001.

BACKGROUND:

The CBTPA provides for quota- and duty-free treatment for qualifying textile and apparel products. Such treatment is generally limited to products manufactured from yarns or fabrics formed in the United States or a beneficiary country. The CBTPA also provides for quota- and duty-free treatment for apparel articles that are both cut (or knit-to-shape) and sewn or otherwise assembled in one or more CBTPA beneficiary countries from fabric or yarn that is not formed in the United States or a CBTPA beneficiary country, if it has been determined that such fabric or yarn cannot be supplied by the domestic industry in commercial quantities in a timely manner. In Executive Order No. 13191, the President delegated to CITA the authority to determine whether yarns or fabrics cannot be supplied by the domestic industry in commercial quantities in a timely manner under the CBTPA. On March 6, 2001, CITA published procedures that it will follow in considering requests. (66 FR 13502).

On June 11, 2002, the Chairman of CITA received a request from Intradeco Corporation of Miami, Florida alleging that certain 100 percent cotton yarn-dyed flannel fabrics, classified under subheading 5208.43.00 of the HTSUS, of construction 2X2 twill weave 64X54, cannot be supplied by the domestic industry in commercial quantities in a timely manner. It requested that apparel of such fabric that are both cut and sewn or otherwise assembled in one or more CBTPA beneficiary countries be eligible for preferential treatment under the CBTPA.

On June 17, 2002, CITA solicited public comments regarding this request, particularly with respect to whether these fabrics can be supplied by the domestic industry in commercial quantities in a timely manner. On July 5, 2002, CITA and the Office of the U.S. Trade Representative offered to hold consultations with the relevant Congressional committees. We also requested the advice of the U.S. International Trade Commission and the relevant Industry Sector Advisory Committees.

CITA has determined that certain 100 percent cotton yarn-dyed flannel fabrics, classified under subheading 5208.43.00 of the HTSUS, of construction 2X2 twill weave 64X54, used in apparel, can be supplied by the domestic industry in commercial quantities in a timely manner. On the basis of currently available information, including review of the request, public comment and advice received, and its understanding of the industry, CITA has determined that there is domestic capacity to supply these fabrics. Intradeco's request is denied.

James C. Leonard III,
Chairman, Committee for the Implementation of Textile Agreements.

[FR Doc.02-21223 Filed 8-20-02; 8:45 am]

BILLING CODE 3510-DR-S